NUCLEAR REGULATORY COMMISSION

[NRC-2014-0163]

Setpoints for Safety-Related Instrumentation

AGENCY: Nuclear Regulatory Commission.

ACTION: Draft regulatory guide, public meeting.

SUMMARY: The U.S. Nuclear Regulatory Commission (NRC) plans to hold a public meeting to review draft regulatory guide (DG) 1141, “Setpoints for Safety-Related Instrumentation.” This DG is proposed Revision 4 of Regulatory Guide (RG) 1.105, “Setpoints for Safety-Related Instrumentation.”

DATES: The public meeting will be held on August 14, 2014. See Section II, Public Meeting, of this document for more information on the meeting.

ADDRESSES: Please refer to Docket ID NRC-2014-0163 when contacting the NRC about the availability of information regarding this document. You may obtain publicly-available information related to this document using any of the following methods:

• Federal Rulemaking Web site: Go to http://www.regulations.gov and search for Docket ID NRC-2014-0163. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided in the table in Section iii, “Availability of Documents.”

• NRC's PDR: You may examine and purchase copies of public documents at the NRC's PDR, Room O1-F21, One White Flint North, 11555 Rockville Pike, Rockville, Maryland 20852.

FOR FURTHER INFORMATION CONTACT: Paul J. Rebstock, Office of Nuclear Regulatory Research, U.S. Nuclear Regulatory Commission, Washington, DC 20555-0001; telephone: 301-251-7488; email paul.rebstock@nrc.gov.

SUPPLEMENTARY INFORMATION:

I. Background

Draft regulatory guide DG-1141 describes practices and criteria that the staff of the NRC considers acceptable for compliance with NRC requirements for ensuring that setpoints for safety related instruments are initially within, and should remain within, technical specification limits. This DG also presents practices and criteria for establishing those technical specification limits and ensuring that those limits will adequately support the proper operation of the associated systems—that is, that establishing and maintaining setpoints in accordance with those limits will provide adequate assurance that a plant will operate as described in the plant safety analyses.

II. Public Meeting

The public meeting will be held in North Bethesda, Maryland, at 11601 Landsdown Street in conference room 1C05 of the 3 White Flint North building adjacent to the White Flint metro station.

III. Availability of Documents

The NRC is making the documents identified in the following table available to interested persons through one or more of the following methods, as indicted.

Document | ADAMS accession No.
Draft regulatory guide DG-1141, “Setpoints for Safety-Related Instrumentation” | ML081630179
Regulatory Analysis for DG-1141 | ML101820157
Public Meeting Handout for DG-1141 | ML14218A012

Dated at Rockville, Maryland, this 8th day of August, 2014.
For the Nuclear Regulatory Commission.
Thomas H. Boyce,
Chief, Regulatory Guidance and Generic Issues Branch, Division of Engineering, Office of Nuclear Regulatory Research.

[FR Doc. 2014-19220 Filed 8-13-14; 8:45 am]

BILLING CODE 7590-01-P